DEPARTMENT OF PROTECTION AGENCY

[FRL-7972-1]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et.seg). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1935.02; Standardized Permit for RCRA Hazardous Waste Management Facilities (Final Rule), in 40 CFR 124.202-124.203; 40 CFR 124.10; 40 CFR 124.31; 40 CFR 123.211-124.214; 40 CFR part 267; 40 CFR 270.3; 40 CFR 270.10-270.11; 40 CFR 270.13-270.14; 40 CFR 270.42; 40 CFR 270.267; 40 CFR 270.275-270.320; was approved 08/26/2005; OMB Number 2050-0182; expires 08/31/2008.

EPA ICR No. 2031.02; Protection of Stratospheric Ozone: Request for Applications for Critical Use Exemption for the Phaseout of Methyl Bromide (Renewal); was approved 8/31/2005; OMB Number 2060-0482; expires 08/31/2008.

EPA ICR No. 2166.01; Application of Measures of Spontaneous Motor Activity for Behavioral Assessment in Human Infants; was approved 08/30/2005; OMB Number 2080-0073; expires 12/31/2006.

EPA ICR No. 1957.04; NESHAP for Metal Coil Surface Coating Plants; in 40 CFR part 63, subpart SSSS (Renewal); was approved 09/02/2005; OMB Number 2060-0487; expires 09/30/2008.

EPA ICR No. 1831.03; NESHAP for Ferroalloys Production: Ferromanganese and Silicomanganese; in 40 CFR part 63, subpart XXX (Renewal); was approved 09/02/2005; OMB Number 2060-0391 expires 09/30/2008.

EPA ICR No. 2081.02; Health Effects of Microbial Pathogens in Recreational Waters; National Epidemiological and Environmental Assessment of Recreational (NEEAR) Water Study (Renewal); was approved by OMB 09/09/2005; OMB Number 2080-0068; expires 09/30/2008.

EPA ICR No. 2201.01; Unincorporated Harris County Precinct 2 Water/Wastewater Study; was approved by OMB 09/09/2005; OMB Number 2040-0263; expires 02/28/2006.

Short Term Extensions

EPA ICR No. 1755.06; Regulatory Reinvention Pilot Projects Under Project XL; OMB Number 2010-0026; on 08/30/2005 OMB extended the expiration date through 09/30/2005.

Comment Filed

EPA ICR No. 2196.01; Standards of Performance for Stationary Compression Ignition Internal Combustion Engines; in 40 CFR part 60, subpart IIII; OMB Number 2060-0417; on 09/02/2005 OMB filed a comment.

EPA ICR No. 1788.07; NESHAP for Oil and Gas Production Facilities (Proposed Rule); on 09/02/2005 OMB filed a comment.

EPA ICR No. 2184.01; Inclusion of Delaware and New Jersey in the Clean Air Interstate Rule (40 CFR parts 51 and 96) (Proposed Rule); on 09/09/2005 OMB filed a comment.

EPA ICR No. 2177.01; Standards of Performance for Stationary Combustion Turbines, (40 CFR part 60, subpart KKKK) (Proposed Rule); on 09/09/2005 OMB filed a comment.

EPA ICR No. 2032.03; NESHAP for Hydrochloric Acid Production (Revision); OMB Number 2060-0529; on 09/09/2005 OMB filed a comment.

Dated: September 13, 2005.
Oscar Morales,
Director, Collection Strategies Division.

[FR Doc. 05-18836 Filed 9-20-05; 8:45 am]

BILLING CODE 6560-50-M